DEPARTMENT OF THE TREASURY

Submission for OMB review; comment request

November 30, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 10, 2001.

Internal Revenue Service (IRS)

OMB Number: 1545-1151.

Form Number: IRS Form 8818.

Type of Review: Extension.

Title: Optional Form to Record Redemption of Series EE and I U.S. Savings Bonds Issued After 1989.

Description: Under Internal Revenue Code section 135, if an individual redeems U.S. Savings Bonds issued after 1989 and pays qualified higher education expenses during the year, the interest on the bonds is excludable from income. Form 8818 can be used to keep a record of the bonds cashed so that the taxpayer can claim the proper interest exclusion.

Respondents: Individuals or households.

Estimated Number of Respondents/Recordkeepers: 25,000.

Estimated Burden Hours Per Respondent/Recordkeeper:

| Minutes
Recordkeeping | 13
Learning about the law or the form | 5
Preparing the form | 21

Frequency of Response: On occasion.

Estimated Total Reporting/Recordkeeping Burden: 32,000 hours.

OMB Number: 1545-1567.

Form Number: IRS Form 8854.

Type of Review: Extension.

Title: Expatriation Information Statement.

Description: Internal Revenue Code Section 6039G requires persons who lost U.S. citizenship to provide information concerning citizenship, income tax liability, net worth, and net assets. Form 8854 is used to report this information.

Respondents: Individuals or households.

Estimated Number of Respondents/Recordkeepers: 11,000.

Estimated Burden Hours Per Respondent/Recordkeeper:

| Part I (in minutes) | Parts I and II
Recordkeeping | 33 | 2 hr., 57 min.
Learning about the law or the form | 13 | 26 min.
Preparing the form | 40 | 1 hr., 24 min.
Copying, assembling, and sending the form to the IRS | 20 | 35 min.

Frequency of Response: Other (Once).

Estimated Total Reporting/Recordkeeping Burden: 23,060 hours.

Clearance Officer: Garrick Shear, Internal Revenue Service, Room 5244, 1111 Constitution Avenue, NW, Washington, DC 20224

OMB Reviewer: Alexander T. Hunt, (202) 395-7860, Office of Management and Budget, Room 10202, New Executive Office Building, Washington, DC 20503

Lois K. Holland,
Departmental Reports Management Officer.

[FR Doc. 00-31375 Filed 12-8-00; 8:45 am]

BILLING CODE 4830-01-U